DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: March 17, 2016, 10:00 a.m.

PLACE: Room 2C, 888 First Street NE., Washington, DC 20426.

STATUS: OPEN.

MATTERS TO BE CONSIDERED: Agenda, *NOTE—Items listed on the agenda may be deleted without further notice.

CONTACT PERSON FOR MORE INFORMATION: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1025th—Meeting, Regular Meeting, March 17, 2016, 10:00 a.m.
Item No. | Docket No. | Company
ADMINISTRATIVE
A-1 | AD16-1-000 | Agency Administrative Matters.
A-2 | AD16-7-000 | Customer Matters, Reliability, Security and Market Operations.
A-3 | AD06-3-000 | 2015 State of the Markets.
A-4 | AD15-12-000 | Transmission Investment Metrics.
ELECTRIC
E-1 | RM16-8-000 | Requirements for Frequency and Voltage Ride Through Capability of Small Generating Facilities.
E-2 | RM15-8-000 | Relay Performance During Stable Power Swings Reliability Standard.
E-3 | ER16-139-000, ER16-139-001 | Southwest Power Pool, Inc.
E-4 | ER16-636-000 | Southwest Power Pool, Inc.
E-5 | OMITTED. |
E-6 | ER12-1574-000 | Kentucky Utilities Company
E-7 | ER16-445-000 | San Diego Gas & Electric Company
E-8 | ER15-572-001, ER15-572-004 | New York Independent System Operator, Inc.
E-9 | ER14-1640-000 | Entergy Gulf States Louisiana, L.L.C.
| ER14-1641-000 | Entergy Louisiana, LLC.
| ER14-1642-000 | Entergy Mississippi, Inc.
| ER14-1643-000 | Entergy New Orleans, Inc.
| ER14-1644-000 (consolidated) | Entergy Texas, Inc.
E-10 | ER13-685-000, ER13-685-001, ER13-687-000, ER13-690-000 | Public Service Company of New Mexico.
E-11 | ER15-234-000, ER15-689-000, ER15-689-001 | Duke Energy Carolinas, LLC.
E-12 | ER15-1825-001 | California Independent System Operator Corporation.
E-13 | OMITTED. |
E-14 | OMITTED. |
E-15 | ER14-2866-003, ER14-2866-004 | Louisville Gas and Electric Company and Kentucky Utilities Company.
E-16 | OMITTED. |
E-17 | EL15-75-000 | The City of Alexandria, Louisiana.
E-18 | EL16-1-000 | Heartland Consumers Power District.
E-19 | EL05-55-003 | City of Holland, Michigan v. Midwest Independent Transmission System Operator, Inc.
| EL05-63-005 | DTE Energy Trading, Inc. v. Midwest Independent Transmission System Operator, Inc.
E-20 | EL15-84-001 | Caithness Long Island II, LLC v. New York Independent System Operator, Inc.
E-21 | ER15-266-000, ER15-266-001 | Public Service Company of Colorado.
E-22 | EL15-55-001 | Pacific Gas and Electric Company.
E-23 | EL15-86-000 | ITC Grid Development, LLC.
E-24 | EL16-9-000 | Big Sandy Peaker Plant, LLC, Wolf Hills Energy, LLC, Crete Energy Venture, LLC, Lincoln Generating Facility, LLC, Rolling Hills Generating, L.L.C. v. PJM Interconnection, L.L.C.
E-25 | ER11-2814-001, ER11-2815-001, ER11-2814-002, ER11-2814-004, ER11-2815-002, ER11-2815-003, ER11-2815-004, ER11-2815-006 | PJM Interconnection, L.L.C.
| ER11-3279-001, ER11-3279-002, ER11-3279-003 | Midwest Independent Transmission System Operator, Inc.
GAS
G-1 | RM96-1-039 | Standards for Business Practices of Interstate Natural Gas Pipelines.
G-2 | RP06-569-008, RP07-376-005, (consolidated) | Transcontinental Gas Pipe Line Corporation.
G-3 | RP16-314-000 | Columbia Gas Transmission, LLC.
HYDRO
H-1 | P-10200-014 | Congdon Pond Hydro, LLC.
H-2 | P-10489-015 | City of River Falls, Wisconsin.
H-3 | P-2660-027 | Woodland Pulp LLC.
H-4 | P-14648-001 | Owyhee Hydro, LLC.
CERTIFICATES
C-1 | CP13-91-001, CP13-92-001, CP13-93-001 | Gulf South Pipeline Company, LP.
C-2 | OMITTED. |
C-3 | CP15-505-000 | Natural Gas Pipeline Company of America LLC.
C-4 | CP16-70-000 | Impulsora Pipeline, LLC.

Issued: March 10, 2016.
Nathaniel J. Davis, Sr.,
Deputy Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-05869 Filed 3-11-16; 11:15 am]

BILLING CODE 6717-01-P